DEPARTMENT OF LABOR

Employment and Training Administration

[TA-W-54,882]

Amended Certification Regarding Eligibility To Apply for Worker Adjustment Assistance and Negative Determination Regarding Eligibility To Apply for Alternative Trade Adjustment Assistance

In accordance with section 223 of the Trade Act of 1974 (19 U.S.C. 2273) the Department of Labor issued amended certification regarding eligibility to apply for worker adjustment assistance and negative determination regarding eligibility to apply for alternative trade adjustment assistance on May 28, 2004, applicable to workers of Interface Fabrics Elkin, Inc., d/b/a Intek, a subsidiary of Interface, Inc., Aberdeen, North Carolina. The notice was published in the Federal Register on June 17, 2004 (69 FR 33942).

At the request of a company official, the Department reviewed the certification for workers of the subject firm. The workers are engaged in the production of furniture fabrics.

New information shows that Interface Fabrics Elkin, Inc., d/b/a Intek, a subsidiary of Interface, Inc., became known as Interface Fabrics South at Aberdeen, d/b/a Chatham, following a re-organization in 2003-2004. Workers separated from employment as the subject firm had their wages reported under a separated unemployment insurance (UI) tax account for Interface Fabrics South at Aberdeen, d/b/a Chatham.

Accordingly, the Department is amending this certification to properly reflect this matter.

The intent of the Department's certification is to include all workers of Interface Fabrics Elkin, Inc., d/b/a Intek, a subsidiary of Interface, Inc., now known as Interface Fabrics South at Aberdeen, d/b/a Intek, d/b/a Intek Marketing, d/b/a Chatham who were adversely affected by increased imports.

The amended notice applicable to TA-W-54,882 is hereby issued as follows:

“All workers of Interface Fabrics Elkin, Inc., d/b/a Intek, a subsidiary of Interface, Inc., now known as Interface Fabrics South at Aberdeen, d/b/a Intek, d/b/a Intek Marketing, d/b/a Chatham, Aberdeen, North Carolina, who became totally or partially separated from employment on or after May 5, 2003, through May 28, 2006, are eligible to apply for adjustment assistance under section 223 of the Trade Act of 1974.”

I further determine that all workers of Interface Fabrics Elkin, Inc., d/b/a Intek, a subsidiary of Interface, Inc., now known as Interface Fabrics South at Aberdeen, d/b/a Intek, d/b/a Intek Marketing, d/b/a Chatham, Aberdeen, North Carolina are denied eligibility to apply for alternative trade adjustment assistance under section 246 of the Trade Act of 1974.

Signed at Washington, DC this 13th day of December 2004.
Richard Church,
Certifying Officer, Division of Trade Adjustment Assistance.

[FR Doc. E5-259 Filed 1-25-05; 8:45 am]

BILLING CODE 4510-30-P